DEPARTMENT OF HOMELAND SECURITY

Transportation Security Administration

[Docket No. TSA-2003-14610]

Intent To Request Revision From OMB of One Current Public Collection of Information: Security Threat Assessment for Individuals Applying for a Hazardous Materials Endorsement for a Commercial Driver's License

AGENCY: Transportation Security Administration, DHS.

ACTION: 60-day notice.

SUMMARY: The Transportation Security Administration (TSA) invites public comment on one currently approved Information Collection Request (ICR), Office of Management and Budget (OMB) control number 1652-0027, abstracted below that we will submit to OMB for revision in compliance with the Paperwork Reduction Act (PRA). The ICR describes the nature of the information collection and its expected burden. The collection involves applicant submission of biometric and biographic information for TSA's security threat assessment in order to obtain the hazardous materials endorsement (HME) on a commercial drivers license (CDL) issued by states and the District of Columbia.

DATES: Send your comments by October 17, 2016.

ADDRESSES: Comments may be emailed to TSAPRA@dhs.gov or delivered to the TSA PRA Officer, Office of Information Technology (OIT), TSA-11, Transportation Security Administration, 601 South 12th Street, Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at www.reginfo.gov. Therefore, in preparation for OMB review and approval of the following information collection, TSA is inviting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0027; Security Threat Assessment for Individuals Applying for a Hazardous Materials Endorsement for a Commercial Driver's License, 49 CFR part 1572. TSA is requesting a revision of the currently approved ICR. The currently approved ICR supports implementation of section 1012 of the USA PATRIOT Act (Pub. L. 107-56, 115 Stat. 272, 396, Oct. 26, 2001) (49 U.S.C. 5103a), which mandates that no state or the District of Columbia may issue a HME on a CDL unless TSA has first determined that the driver is not a threat to transportation security.

TSA's implementing regulations (codified at 49 CFR part 1572) describe the procedures, standards, and eligibility criteria for security threat assessments on individuals seeking to obtain, renew, or transfer a HME on a CDL. In order to conduct the security threat assessment, states (or TSA's agent in states electing to have TSA perform the collection of information) must collect the driver's legal name, current and previous mailing addresses, date of birth, gender, height, weight, hair and eye color, city/state/country of birth, social security number (optional) and immigration status/naturalization date/alien registration number (as applicable).

In addition, states or the TSA agent must submit the driver's acknowledgement concerning previous criminal history, the driver's fingerprints, and whether the driver is a new applicant or applying to renew or transfer the HME. This information is necessary for TSA to forecast driver retention, transfer rate, and drop-rate to help improve customer service, reduce program costs, and provide comparability with other Federal background checks, including the Transportation Workers Identification Credential (TWIC). Finally, states are required to maintain a copy of the driver application for a period of one year.

The currently approved ICR also includes an optional survey to gather information regarding the drivers' overall customer satisfaction with the service received at the enrollment center utilized by the TSA agent states. The optional survey will be administered at the end of the in-person enrollment service. Please note that the optional survey is only provided for drivers who enroll with a state serviced by TSA's designated enrollment contractor.

TSA is revising the collection of information to expand the potential use of information. This revision would allow future use of the information collected for additional comparability determinations, such as allowing the HME applicant to participate in a program such as the TSA Pre✓® Application Program without requiring an additional background check. For example, the HME applicant may be able to “opt in” for a determination that the HME holder is eligible to participate in TSA Pre✓®, TSA's expedited screening program for air travelers. TSA does not foresee additional fees for completing the comparability determination.

TSA estimates an annualized 267,157 respondents ¹ will apply for an HME, and that the application and background check process will involve 440,275 annualized hours.² TSA estimates that of the 267,157 respondents, 93,505 drivers will respond to the survey with an annualized burden hours of 3,927. TSA estimates the total annualized costs to respondent drivers will be $23,497,498.

¹ The number of respondents is based on actual numbers from 2014, 2015, the estimate for 2016, and a 1 percent growth estimate for 2017-19.

² The hour burden was recalculated using zip code average transit, average enrollment time, and a “wait time” buffer of 10 minutes. The total hour burden was reduced by about 1.5 hours, which accounts for the reduction of the annualized hours since the last submission to OMB in 2013.

Dated: August 10, 2016.
Christina A. Walsh,
TSA Paperwork Reduction Act Officer, Office of Information Technology.

[FR Doc. 2016-19448 Filed 8-15-16; 8:45 am]

BILLING CODE 9110-05-P